NUCLEAR REGULATORY COMMISSION

[Docket No. 40-8681-MLA-10; ASLBP No. 02-793-01-MLA]

International Uranium (USA) Corporation; Notice of Reconstitution

Pursuant to 10 CFR 2.1207, the Presiding Officer in the captioned 10 CFR Part 2, subpart L proceeding is hereby replaced by appointing Administrative Judge Alan S. Rosenthal as Presiding Officer in place of Administrative Judge Ivan Smith.

All correspondence, documents and other material shall be filed with the Presiding Officer in accordance with 10 CFR 2.1203. The address of the new Presiding Officer is: Administrative Judge Alan S. Rosenthal, Atomic Safety and Licensing Board Panel, U.S. Nuclear Regulatory Commission, Washington, DC 20555-0001.

Issued at Rockville, Maryland this 10th day of October 2001.
G. Paul Bollwerk III,
Chief Administrative Judge, Atomic Safety and Licensing Board Panel.

[FR Doc. 01-25959 Filed 10-15-01; 8:45 am]

BILLING CODE 7590-01-P